FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than October 29, 2004.

A. Federal Reserve Bank of Cleveland (Cindy C. West, Banking Supervisor) 1455 East Sixth Street, Cleveland, Ohio 44101-2566:

1. Fifth Third Bancorp, and Fifth Third Financial Company, both of Cincinnati, Ohio; to acquire 100 percent of the voting shares of, and thereby merge with First National Bankshares of Florida, Inc., Naples, Florida, and thereby indirectly acquire voting shares of First National Bank of Florida, Naples, Florida.

2. Peoples Community Bancorp, Inc., West Chester, Ohio; to become a bank holding company by acquiring 38 percent of the voting shares of Columbia Bancorp, Inc., and thereby indirectly acquire voting shares of The Columbia Savings Bank, both of Cincinnati, Ohio.

In connection with this application, Applicant also has applied to retain Peoples Community Bank, West Chester, Ohio, and thereby engage in operating a savings association, pursuant to section 225.28(b)(4)(ii) of Regulation Y.

B. Federal Reserve Bank of Kansas City (Donna J. Ward, Assistant Vice President) 925 Grand Avenue, Kansas City, Missouri 64198-0001:

1.Centennial Bank Holdings, Inc., Fort Collins, Colorado; and its wholly owned subsidiary Newco Front Range, Inc., Fort Collins, Colorado, to acquire 100 percent of the voting shares of Guaranty Corporation, Denver, Colorado, and thereby indirectly acquire Guaranty Bank and Trust Company, Denver, Colorado, Collegiate Peaks Bank, Buena Vista, Colorado, and First National Bank of Strasburg, Strasburg, Colorado.

In connection with this application, Applicant also has applied to acquire voting shares of Guaranty Corporation, Denver, Colorado, and thereby indirectly acquire AMG Guaranty Trust, N.A., Greenwood Village, Colorado, and thereby engage in trust activities, pursuant to section 225.28(b)(5) of Regulation Y.

Board of Governors of the Federal Reserve System, September 30, 2004.
Robert deV. Frierson,
Deputy Secretary of the Board.

[FR Doc. 04-22378 Filed 10-4-04; 8:45 am]

BILLING CODE 6210-01-S